DEPARTMENT OF HOMELAND SECURITY

Coast Guard

33 CFR Part 117

[Docket No. USCG-2012-0808]

Drawbridge Operation Regulation; Old River, Orwood, CA

AGENCY: Coast Guard, DHS.

ACTION: Notice of temporary deviation from regulations.

SUMMARY: The Coast Guard has issued a temporary deviation from the operating regulation that governs the Burlington Northern & Santa Fe Railroad (BNSF) Drawbridge across Old River, mile 10.4, at Orwood, CA. The deviation is to allow the bridge owner to perform essential mechanical repairs on the bridge. This deviation allows the bridge to remain in the closed-to-navigation position during the event.

DATES: This deviation is effective from 8 a.m. October 22, 2012 to 4 p.m. on October 26, 2012.

ADDRESSES: Documents mentioned in this preamble as being available in the docket are part of the docket USCG-2012-0808 and are available online by going to http://www.regulations.gov, inserting USCG-2012-0808 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email David H. Sulouff, Chief, Bridge Section, Eleventh Coast Guard District; telephone 510-437-3516, email David.H.Sulouff@uscg.mil. If you have questions on viewing the docket, call Renee V. Wright, Program Manager, Docket Operations, telephone 202-366-9826.

SUPPLEMENTARY INFORMATION: BNSF has requested a temporary change to the operation of the BNSF Railroad Drawbridge, mile 10.4, over Old River, at Orwood, CA. The drawbridge navigation span provides a vertical clearance of 11.2 feet above Mean High Water in the closed-to-navigation position. The draw opens promptly and fully when a request to open is given. Navigation on the waterway is commercial and recreational.

This temporary deviation has been coordinated with commercial operators and various marinas. No objections to the proposed temporary deviation were raised. Vessels that can transit the bridge, while in the closed-to-navigation position, may continue to do so at any time. The BNSF drawbridge across Middle River provides alternative access for vessel transits.

In accordance with 33 CFR 117.35(e), the drawbridge must return to its regular operating schedule immediately at the end of the designated time period. This deviation from the operating regulations is authorized under 33 CFR 117.35.

Dated: September 11, 2012.
D.H. Sulouff,
District Bridge Chief, Eleventh Coast Guard District.

[FR Doc. 2012-23292 Filed 9-20-12; 8:45 am]

BILLING CODE 9110-04-P